DEPARTMENT OF TRANSPORTATION

Surface Transportation Board

[STB Finance Docket No. 35011]

Wisconsin & Southern Railroad Company—Trackage Rights Exemption—Soo Line Railroad Company d/b/a Canadian Pacific Railway

Pursuant to a written trackage rights agreement, Soo Line Railroad Company d/b/a Canadian Pacific Railway (CPR) has agreed to grant nonexclusive overhead trackage rights to Wisconsin & Southern Railroad Company (WSOR) over a line of railroad between the connection of WSOR with CPR's Watertown Subdivision at milepost 93.20 in North Milwaukee, WI, and the connection of CPR and the Northeast Illinois Regional Commuter Railroad Corporation ¹ on CPR's C&M Subdivision at milepost 32.3 at Rondout, IL.²

¹ In its pleadings, WSOR refers to this entity at METRA.

² With its verified notice of exemption, WSOR filed a redacted version of its trackage rights agreement with CPR. As required by 49 CFR 1180.6(a)(7)(ii), WSOR concurrently filed an unredacted version of the agreement, along with a motion for protective order to protect the confidential document. A protective order in this proceeding was served on April 20, 2007.

The transaction is scheduled to be consummated on or after the May 10, 2007 effective date of the exemption (30 days after the exemption was filed).³

³ In the verified notice, although WSOR proposes to consummate on or about May 9, 2007, WSOR clearly states its intent to consummate “after the conclusion of the 30[-]day waiting period required by the Board's trackage rights exemption regulations.”

The purpose of the trackage rights is to enable WSOR to handle more efficiently existing movements of specific traffic between Chicago, IL, and North Milwaukee by reducing trip mileage, time, crew costs, fuel consumption, and equipment costs.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by May 3, 2007 (at least 7 days before the exemption becomes effective).

An original and 10 copies of all pleadings, referring to STB Finance Docket No. 35011, must be filed with the Surface Transportation Board, 395 E Street, SW., Washington, DC 20423-0001. In addition, a copy of each pleading must be served on John D. Heffner, John D. Heffner, PLLC, 1920 N Street, NW., Suite 800, Washington, DC 20036.

Board decisions and notices are available on our Web site at http://www.stb.dot.gov.

Decided: April 20, 2007.
By the Board, David M. Konschnik, Director, Office of Proceedings.
Vernon A. Williams,
Secretary.

[FR Doc. E7-8010 Filed 4-25-07; 8:45 am]

BILLING CODE 4915-01-P